ENVIRONMENTAL PROTECTION AGENCY

[OPP-34145B; FRL-6763-2]

Fenthion Public Stakeholder Meeting

AGENCY: Environmental Protection Agency (EPA).

ACTION: Notice of public meeting.

SUMMARY: The Agency is holding a public stakeholder meeting to gather information and hear concerns and comments about risks and possible risk mitigation for the organophosphate mosquitocide pesticide, fenthion. The Agency recently completed an Interim Reregistration Eligible Decision (IRED) document identifying unacceptable risks and risk mitigation recommendations. EPA is seeking stakeholder discussion of the risks posed by fenthion use and ways to mitigate these risks.

DATES: The meeting will be held on January 17, 2001, from 9:00 a.m. to 5:00 p.m. Requests to participate in the meeting must be received on or before January 8, 2001.

ADDRESSES: The meeting will be held at Embassy Suites, 8978 International Drive, Orlando, Florida 32819, telephone, (407) 352-1400 ext. 7120. Requests to participate may be submitted by mail, electronically, or in person. Please follow the detailed instructions for each method as provided in Unit II. of the SUPPLEMENTARY INFORMATION. To ensure proper receipt by EPA, your request must identify docket control number OPP-34145B in the subject line on the first page of your response.

FOR FURTHER INFORMATION CONTACT: For technical information contact: Tracy Truesdale, Office of Pesticide Programs, Special Review and Reregistration Division, (7508C), Environmental Protection Agency, 1200 Pennsylvania Ave., NW., Washington, DC 20460; telephone number: (703) 308-8073; e-mail address: truesdale.tracy@epa.gov.

SUPPLEMENTARY INFORMATION:

I. General Information

A. Does this Notice Apply to Me?

This notice is directed to the public in general. This notice may, however, be of interest to those person(s) who are interested in risk management strategies for workers, non-target organisms, as well as public health and mosquito control, etc. Since other entities may also be interested, the Agency has not attempted to describe all the specific entities that may be affected by this action. If you have any questions regarding the applicability of this action to a particular entity, consult the technical person listed under FOR FURTHER INFORMATION CONTACT.

B. How Can I Get Additional Information, Including Copies of this Document or Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. Copies of the fenthion IRED are available at www.epa.gov/REDs/.

2. In person. The Agency has established an administrative record for this meeting under docket control number OPP-34145B. The administrative record consists of the documents specifically referenced in this notice, any public comments received during an applicable comment period, and other information related to the proposed strategies to manage the remaining risks for fenthion, including any information claimed as Confidential Business Information (CBI). This administrative record includes the documents that are physically located in the docket, as well as the documents that are referenced in those documents. The public version of the administrative record, which includes printed, paper versions of any electronic comments that may be submitted during an applicable comment period, is available for inspection in Room 119, Crystal Mall #2, 1921 Jefferson Davis Hwy., Arlington, VA, from 8:30 a.m. ti 4:00 p.m., Monday through Friday, excluding, excluding legal holidays. The telephone number of the Center is (703) 305-5805.

II. How Can I Request to Participate in this Meeting?

You may submit a request to participate in this meeting through the mail, in person, or electronically. Do not submit any information in your request that is considered CBI. Your request must be received by EPA on or before January 8, 2001. To ensure proper receipt by EPA, it is imperative that you identify docket control number OPP-34145B in the subject line on the first page of your request.

1. By mail. You may submit a written request to: Public Information and Records Integrity Branch, Information Resources and Services division (7502C), Office of Pesticide Programs, Environmental Protection Agency, 1200 Pennsylvania Ave., NW., Washington, DC 20460.

2. In person or by courier. You may deliver a written request to: Public Information and Records Integrity Branch (PIRIB), Information Resources and Services Division, Office of Pesticide Programs, Environmental Protection Agency, Room 119, Crystal Mall #2, 1921 Jefferson Davis Hwy., Arlington, VA 22202. The PIRIB is open from 8:30 a.m. to 4:00 p.m., Monday through Friday, excluding holidays. The PIRIB telephone number is (703) 305-5805.

3. Electronically. You may submit your request electronically by e-mail to: opp-docket@epa.gov. Do not submit any requests electronically that you consider to be CBI. Electronic requests must be submitted as an ASCII file, avoiding the use of special characters and any form of encryption. All requests in electronic form must be identified by the docket control number OPP-34145B.

List of Subjects

Environmental protection, Chemicals, Pesticides and pests.

Dated: December 20, 2000.
Lois Rossi,
Director, Office Pesticide Programs, Special Review and Reregistration Division.

[FR Doc. 00-33013 Filed 12-28-00; 8:45 am]

BILLING CODE 6560-50-S